DEPARTMENT OF TRANSPORTATION

Federal Highway Administration

Environmental Impact Statement: King County, Washington

AGENCY: Federal Highway Administration (FHWA), Department of Transportation (DOT).

ACTION: Notice of intent to prepare an environmental impact statement.

SUMMARY: The FHWA is issuing this notice to advise the public that an environmental impact statement (EIS) will be prepared for a proposed project in King County, Washington.

FOR FURTHER INFORMATION CONTACT:

Lindsey Handel, Urban Area Engineer, Federal Highway Administration, 711 South Capitol Way, Suite 501, Olympia, WA 98501; telephone:(360) 753-9550; email: Lindsey.Handel@dot.gov.

Jane Lewis, Project Coordinator, Washington State Convention Center, c/o Pine Street Group L.L.C., 1500 Fourth Ave., Suite 600, Seattle, WA 98101; telephone: (206) 340-9897; email: wscc@pinest.com.

SUPPLEMENTARY INFORMATION: The FHWA, in cooperation with WSCC, will prepare an EIS on the Washington State Convention Center Addition Project to construct an addition to the Washington State Convention Center. The project requires FHWA approvals for closure of access to an Interstate ramp and use of Interstate airspace (air and ground lease), and related breaks in access.

Preliminary alternatives under consideration include: (1) Taking no action; (2) construct approximately 1.50 million square feet of gross floor area composed of approximately 1.26 million square feet of addition to the convention center and 262,000 square feet of related ancillary development.

The FHWA along with WSCC are holding a public scoping meeting on July 20, 2016, from 5:30 p.m. to 7 p.m. at the Washington State Convention Center, 800 Convention Place, Room 206, Seattle, WA to solicit public comments regarding the scope of issues to be addressed in the NEPA EIS. The public will be notified by a flyer that will be mailed to interested agencies, organizations, and individuals affected by the project, as well as published in The Seattle Times and the Daily Journal of Commerce. In addition, notice of the EIS Scoping meeting will be posted at locations on the project site. The meeting will include a brief presentation followed by public comments.

Agencies, Tribes, and the public are encouraged to submit comments on the purpose and need and preliminary range of alternatives during the scoping period. Comments must be received by July 26, 2016, to be included in the formal scoping record. To ensure that the full range of issues related to this proposed action is addressed, and all the significant issues identified, comments and suggestions are invited from interested parties during the scoping period. Comments concerning this proposal will be accepted at the public meeting or can be sent by mail to: Lindsey Handel, Urban Area Engineer, Federal Highway Administration, 711 South Capitol Way, Suite 501, Olympia, WA 98501; telephone: (360) 753-9550; email: Lindsey.Handel@dot.gov.

(Catalog of Federal Domestic Assistance Program Number 20.205, Highway Planning and Construction. The regulations implementing Executive Order 12372 regarding intergovernmental consultation on Federal programs and activities apply to this program.)

Daniel Mathis,
Division Administrator, Washington Division, Federal Highway Administration.

[FR Doc. 2016-16204 Filed 7-7-16; 8:45 am]

BILLING CODE 4910-22-P